FEDERAL COMMUNICATIONS COMMISSION

47 CFR Part 73

[MB Docket No. 15-98; RM-11748; DA 15-621]

Television Broadcasting Services; Providence, Rhode Island

AGENCY: Federal Communications Commission.

ACTION: Final rule.

SUMMARY: The Commission has before it a Notice of Proposed Rulemaking issued in response to a petition for rulemaking filed by WJAR Licensee, LLC (the Licensee), the licensee of WJAR(TV), channel 51, Providence, Rhode Island, requesting the substitution of channel 50 for channel 51 at Providence. The licensee filed comments reaffirming its interest in the proposed channel substitution and stated that if the proposal is granted, it will promptly file an application for the facilities specified in its rulemaking petition and construct the station. The licensee asserts that adopting the proposed channel substitution would serve the public interest because it would remove any potential interference with a wireless licensee in the Lower 700 MHz A Block located adjacent to channel 51 in Providence, Rhode Island-New Bedford, Massachusetts and Boston, Massachusetts television markets.

DATES: This rule is effective May 29, 2015.

FOR FURTHER INFORMATION CONTACT: Jeremy Miller, Jeremy.Miller@fcc.gov, Media Bureau, (202) 418-1507.

SUPPLEMENTARY INFORMATION: This is a synopsis of the Commission's Report and Order, MB Docket No. 15-98, adopted May 22, 2015, and released May 22, 2015. The full text of this document is available for public inspection and copying during normal business hours in the FCC's Reference Information Center at Portals II, CY-A257, 445 12th Street SW., Washington, DC 20554. This document will also be available via ECFS (http://fjallfoss.fcc.gov/ecfs/). To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any information collection burden “for small business concerns with fewer than 25 employees,” pursuant to the Small Business Paperwork Relief Act of 2002, Public Law 107-198, see 44 U.S.C. 3506(c)(4). Provisions of the Regulatory Flexibility Act of 1980 do not apply to this proceeding.

The Commission will send a copy of this Report and Order in a report to be sent to Congress and the Government Accountability Office pursuant to the Congressional review Act, see 5 U.S.C. 801(a)(1)(A).

List of Subjects in 47 CFR Part 73

Television.

Federal Communications Commission.
Barbara A. Kreisman,
Chief, Video Division, Media Bureau.

Final Rule

For the reasons discussed in the preamble, the Federal Communications Commission amends 47 CFR part 73 as follows:

PART 73—RADIO BROADCAST SERVICES

1. The authority citation for part 73 continues to read as follows:

Authority: 47 U.S.C. 154, 303, 334, 336, and 339.

§ 73.622 [Amended]

2. Section 73.622(i), the Post-Transition Table of DTV Allotments under Rhode Island, is amended by removing channel 51 at Providence and adding channel 50 at Providence.

[FR Doc. 2015-13099 Filed 5-28-15; 8:45 am]

BILLING CODE 6712-01-P